DEPARTMENT OF VETERANS AFFAIRS

[OMB Control No. 2900-0829]

Agency Information Collection Activity: Income and Asset Statement in Support of Claim for Pension or Parents' DIC; Withdrawn

AGENCY: Veterans Benefits Administration, Department of Veterans Affairs.

ACTION: Notice; withdrawal.

SUMMARY: On Friday, September 15, 2023, the Veterans Benefits Administration (VA), published a notice in the Federal Register announcing an opportunity for public comment on the proposed collection Income and Asset Statement in Support of Claim for Pension or Parents' (VA Form 21P-0969). This notice was published in error; therefore, this document corrects that error by withdrawing this FR notice, document number 2023-20001.

DATES: As of Friday, September 15, 2023, the FR notice published at 88 FR 178, page 63677 on September 15, 2023, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2023-20001, published on Friday, September 15, 2023 (88 FR 178, page 63677), is withdrawn by this notice.

By direction of the Secretary.
Maribel Aponte,
VA PRA Clearance Officer, Office of Enterprise and Integration/Data Governance Analytics, Department of Veterans Affairs.

[FR Doc. 2023-20331 Filed 9-19-23; 8:45 am]

BILLING CODE 8320-01-P